DEPARTMENT OF DEFENSE

Department of the Army; Corps of Engineers

Intent To Prepare a Supplemental Environmental Impact Statement for the Grays Harbor Navigation Improvement Project, Grays Harbor, Washington

AGENCY: Department of Army, U.S. Army Corps of Engineers, DoD.

ACTION: Notice of Intent.

SUMMARY: Pursuant to Section 102(2)(C) of the National Environmental Policy Act (NEPA) of 1969, as amended, the U.S. Army Corps of Engineers (Corps), Seattle District, as lead Federal agency, will prepare a Supplemental Environmental Impact Statement (SEIS) evaluating the Grays Harbor Navigation Improvement Project. The purpose of this supplement is to address proposed changes to the Grays Harbor and Chehalis River Navigation Project developed since the Corps prepared the 1982 Grays Harbor, Chehalis and Hoquiam Rivers, Washington Channel Improvements for Navigation Interim Feasibility Report and Final Environmental Impact Statement (EIS) and its 1989 supplement. The SEIS updates the original EIS and its supplement with more recent relevant environmental information, and updates the description of effects that may potentially occur from implementing the proposed action. The SEIS will evaluate the practicality and potential environmental impacts of three alternatives: two with varying channel depths and no action.

ADDRESSES: To be included on the mailing list for review of the SEIS, all requests should be submitted to Mr. Kevin McKeag, U.S. Army Corps of Engineers, Seattle District, 4735 East Marginal Way South, Seattle, Washington, 98134.

FOR FURTHER INFORMATION CONTACT: Mr. Kevin McKeag, Environmental and Cultural Resources Branch, U.S. Army Corps of Engineers, at email: kevin.j.mckeag@usace.army.mil, by regular mail (see ADDRESSES), or telephone: 206-764-3576.

SUPPLEMENTARY INFORMATION: Preparation of an SEIS will inform the Corps' eventual decision on whether or not to implement the proposed action. As part of the NEPA process, the Corps will gather and analyze information to compare the potential environmental effects of possible project alternatives and a “no action” alternative in the SEIS. The SEIS will be prepared to assess the potential social, economic and environmental impacts of the project, and will be sufficient in scope to address Federal, State and local regulatory requirements and pertinent environmental and socio-economic issues. The Federal SEIS process begins with publication of this Notice of Intent. The SEIS will be prepared in accordance with the Corps' procedures for implementing NEPA (33 CFR Part 230) and consistent with the Corps' policy to facilitate public understanding and review of agency proposals.

1. Proposed Action: The proposed action is to deepen the Federal navigation deep-draft channel in Grays Harbor from its currently maintained depth of minus 36 feet mean lower low water (MLLW) down to its authorized depth of minus 38 feet MLLW, including placement of the dredged material at existing authorized dredged material placement sites (including appropriate upland placement as necessary for any sediments not meeting unconfined aquatic placement criteria). Congress initially authorized construction of the navigation channel in the Rivers and Harbors Appropriations Act of 1899. Dredging of the navigation channel to a depth of minus 38 feet MLLW was subsequently authorized in the form of the Navigation Improvement Project by Congress in Section 202 of the Water Resources Development Act of 1986 (Pub. L. 99-662) in November 1986.

2. Alternatives: The SEIS will evaluate the practicability and environmental impacts of three alternatives, including the no action alternative: (1) Deepen channel to minus 37 feet MLLW; (2) Deepen channel to minus 38 feet MLLW; and (3) no action (continue to maintain channel at existing depth of minus 36 feet MLLW). The draft SEIS will identify the agency preferred action alternative, which will be identified in consideration of overall environmental impacts and contributions to cumulative impacts. The potential direct, indirect, and cumulative impacts of the proposed action and action alternatives on the following resource issues will be analyzed in the SEIS: Vessel traffic and navigational safety; aquatic habitats; aquatic species, including Endangered Species Act-listed species and Washington State species of concern; Tribal treaty rights; wetland and riparian habitat; wildlife; vehicle traffic; cultural, historic, and archeological resources; air and water quality; noise; recreation; land use; and aesthetics.

3. Public Involvement: Initial public participation included a December 2012 public meeting held at the Port of Grays Harbor. Additional public involvement efforts will continue throughout the development of a Draft SEIS, and when complete, the Draft SEIS will be distributed (either mailed or emailed) to pertinent Federal, State and local agencies, Government officials, local libraries, Native American Tribes, and environmental interest organizations, and known interested citizens, for review and comment.

4. Scoping. Consistent with NEPA procedures, a public scoping meeting will not be held in the development of this Supplemental EIS. Comments received during the December 2012 public meeting will be used to assist in development of the Draft SEIS.

5. Other Environmental Review and Coordination Requirements: The Corps has and will continue to coordinate with several agencies and entities throughout the NEPA process including: the Port of Grays Harbor, the Quinault Indian Nation, the Chehalis Tribe, Northwest Indian Fisheries Commission, Washington Department of Ecology, Washington Department of Fish and Wildlife, Washington Department of Natural Resources, U.S. Fish and Wildlife Service, and National Marine Fisheries Service. The draft SEIS will address the extent to which the proposed project is in compliance with all applicable laws and regulations, including NEPA, the Clean Water Act, the Endangered Species Act, the Coastal Zone Management Act, the Clean Air Act, the National Historic Preservation Act, and Treaty Rights.

6. Availability of Draft SEIS. The draft SEIS is estimated to be completed and available for public review in fall 2013.

Dated: September 3, 2013.
Bruce A. Estok,
Commanding Officer, COL, EN.

[FR Doc. 2013-22286 Filed 9-12-13; 8:45 am]

BILLING CODE 3720-58-P